DEPARTMENT OF TRANSPORTATION

Federal Highway Administration

Environmental Impact Statement: Jackson County, NC

AGENCY: Federal Highway Administration (FHWA), Department of Transportation.

ACTION: Notice of intent.

SUMMARY: The FHWA is issuing this notice to advise the public that an environmental impact statement will be prepared for a proposed highway project from NC 107 to US 23-74 east of Sylva, Jackson County, North Carolina. (TIP Project R-4745).

FOR FURTHER INFORMATION CONTACT: Mr. Mitch Batuzich, Preconstruction and Environment Specialist, Federal Highway Administration, 310 New Bern Avenue, Suite 410, Raleigh, North Carolina 27601-1418, Telephone: (919) 747-7033.

SUPPLEMENTARY INFORMATION: The FHWA, in cooperation with the North Carolina Department of Transportation (NCDOT), will prepare an environmental impact statement (EIS) on the proposed NC 107 Connector from NC 107 to US 23-74 east of Sylva. A notice of intent was previously published in the Federal Register on October 1, 2008 (Volume 73, Number 191) with the following purpose description:

“The purpose of this project is to relieve traffic congestion in the Sylva area. The proposed action is consistent with the Sylva Thoroughfare Plan adopted in 1994 and the Jackson County Comprehensive Transportation Plan that is anticipated for adoption in 2009.”

NC 107 is the major north/south transportation corridor in Jackson County and several municipalities. It is a link in NCDOT's Strategic Highway Corridors Vision Plan as part of the 70-mile long Corridor 05 between Anderson, SC and Knoxville, TN. It is an important route for regional mobility. There are no major parallel routes within 4 miles of NC 107 that could serve as an alternative for north/south through traffic. During current peak hours, portions of NC 107 between US 23 Business and NC 116 in the Sylva area have reached their traffic carrying capacity.

The purpose of the project is being revised. Traffic studies show that substantial upgrades to existing NC 107/US 23 Business are needed to provide acceptable levels of traffic service in the future. The purpose of the proposed action is to develop a transportation solution that improves the NC 107 north/south vehicular mobility by increasing average speeds for through traffic between US 23-74 and NC 107 south of Sylva. Alternatives to be studied may include: (1) The `no-build' alternative, (2) improve existing facilities, and (3) a highway on new location.”

Letters describing the proposed action and soliciting comments have been sent to appropriate Federal, State and local agencies. Citizens Informational Workshops and meetings with local officials and neighborhood groups will be held in the study area. Public hearings will also be held. Information on the time and place of the workshops and hearings will be provided in the local news media. The draft EIS will be available for public and agency review and comment at the time of the hearing.

An interagency project team is being assembled to obtain input on major milestones during the project's development. These include the purpose and need, detailed study alternatives, bridge lengths, alignment reviews, the preferred alternative, and avoidance and minimization of environmental impacts.

The purpose and need statement for the project is being developed. To ensure that the full range of issues related to the proposed action is addressed and all significant issues are identified, comments and suggestions are invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program.)

Issued on: December 12, 2011.
Clarence W. Coleman, Jr.,
Director of Preconstruction & Environment, Raleigh, North Carolina.

[FR Doc. 2011-32234 Filed 12-15-11; 8:45 am]

BILLING CODE 4910-22-P